DEPARTMENT OF JUSTICE

Notice of Lodging of Consent Decree Pursuant to the Clean Air Act

On September 9, 2013, the Department of Justice lodged a proposed Consent Decree (“Decree”) in the United States District Court for the District of South Carolina, Florence Division in the lawsuit entitled United States of America and the State of South Carolina by and through the Department of Health and Environmental Control (Plaintiffs) v. Town of Timmonsville (Defendant) and the City of Florence, (permissively joined party pursuant to Fed. R. Civ. P. 20(a)(2)(A)), Civil Action No. 4:13-CV-01522-RBH.

This Decree represents a settlement of claims against the Defendant Town of Timmonsville (“Town” or “Timmonsville”) for violations of Section 504 of the Clean Water Act, 33 U.S.C. 1364(a), and Section 44-55-90(C)(2002 & Supp. 2011) of the South Carolina Safe Drinking Water Act (“SC SDWA”), S.C. Code Ann. § 44-55-90 (C) (2002 & Supp. 2011), Section 309(b) and (d) of the Clean Water Act, 33 U.S.C. 1319(b) and (d), Sections 48-1-50(4) and 48-1-330 of the South Carolina Pollution Control Act (“SCPCA”), S.C. Ann. §§ 48-1-50(4) and 48-1-330; and Sections 44-55-90(b)(1) and (C) of the SC SDWA, S.C. Code Ann. §§ 44-55-90(B)(1) and (C).

The Town entered into an Agreement to Convey Utility and Grant Franchise (“Agreement”) with the City of Florence. The Agreement provides for the transfer of the Town's sewer and drinking water utilities to the City of Florence. Under the Consent Decree, the City of Florence will assume the obligations of the Defendant that are set forth in the Consent Decree. Specifically, the Consent Decree sets forth a schedule for bringing the utilities into compliance with both the Clean Water Act and the South Carolina Safe Drinking Water Act.

The publication of this notice opens a period for public comment on the Consent Decree. Comments should be addressed to the Assistant Attorney General, Environment and Natural Resources Division, and should refer to United States and the State of South Carolina by and through the Department of Health and Environmental Control (Plaintiffs) v. Town of Timmonsville (Defendant) and the City of Florence. Case No. 4:13-CV-01522-RBH, D.J. Ref. No. 90-5-1-1-09597. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $16.75 (25 cents per page reproduction cost) payable to the United States Treasury for the Consent Decree and $22.75 for the Consent Decree and Agreement.

Henry S. Friedman,
Assistant Section Chief, Environmental Enforcement Section, Environment and Natural Resources Division.

[FR Doc. 2013-22591 Filed 9-16-13; 8:45 am]

BILLING CODE 4410-15-P